ENVIRONMENTAL PROTECTION AGENCY

[FRL-9787-3]

Notice of Meeting of the EPA Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held April 17th and 18th, 2013 at the National Archives Museum (700 Pennsylvania Avenue NW., Washington, DC 20408) in the Jefferson Room. The CHPAC advises the Environmental Protection Agency on science, regulations, and other issues relating to children's environmental health.

DATES: April 17-18, 2013.

ADDRESSES: 700 Pennsylvania Avenue NW., Washington, DC 20408. Enter on 7th Street near Constitution Avenue.

FOR FURTHER INFORMATION CONTACT: Martha Berger, Office of Children's Health Protection, USEPA, MC 1107A, 1200 Pennsylvania Avenue NW., Washington, DC 20460, (202) 564-2191 or berger.martha@epa.gov.

SUPPLEMENTARY INFORMATION: The meetings of the CHPAC are open to the public. The CHPAC will meet on Wednesday, April 17th from 1 p.m. to 6 p.m., and Thursday, April 18th from 8:30 a.m. to 4:00 p.m. in the Jefferson Room. An agenda will be posted to epa.gov/children.

Access and Accommodations: For information on access or services for individuals with disabilities, please contact Martha Berger at 202-564-2191 or berger.martha@epa.gov., preferably at least 10 days prior to the meeting.

Martha Berger,
Designated Federal Official.

[FR Doc. 2013-05095 Filed 3-6-13; 8:45 am]

BILLING CODE 6560-50-P